DEPARTMENT OF THE INTERIOR

National Park Service

Notice of Inventory Completion: New York University College of Dentistry, New York, NY

AGENCY: National Park Service, Interior.

ACTION: Notice.

Notice is here given in accordance with the Native American Graves Protection and Repatriation Act (NAGPRA), 25 U.S.C. 3003, of the completion of an inventory of human remains in the possession of the New York University College of Dentistry, New York, NY. The human remains were removed from Morton County, ND.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by New York University College of Dentistry professional staff in consultation with representatives of the Three Affiliated Tribes of the Fort Berthold Reservation, North Dakota.

At an unknown date, human remains representing a minimum of two individuals were removed from On-A-Slant Village, Ft. Abraham Lincoln, near Bismarck, Morton County, ND, by an unknown collector. In 1925, the human remains were accessioned by the Department of Physical Anthropology at the Museum of the American Indian, Heye Foundation. In 1956, the human remains were transferred to Dr. Theodore Kazamiroff, New York University College of Dentistry. No known individuals were identified. No associated funerary objects are present.

Museum of the American Indian records identify the provenience of the human remains as “Ft. Abraham Lincoln, near Bismarck, North Dakota.” Fort Abraham Lincoln is also the site of a Historic Period Mandan Village known as On-A-Slant Village (32MO26). The cranium of one of the individuals is painted with a red pigment matching historically described and archeologically confirmed mortuary customs of the Mandan.

On-A-Slant Village is documented historically, archeologically and by tribal oral traditions as a village of the Plains Village Period dating to A.D. 1450-1785, and occupied by the Nuitadi subgroup of the Mandan. In 1785, the village was abandoned following a smallpox epidemic and its inhabitants moved to the Knife River region to live alongside the Hidatsa. By 1862, the Mandan, Hidatsa and Arikara lived at the Like-A-Fishook village. In 1937, the three tribes became formally known as the Three Affiliated Tribes of the Fort Berthold Reservation. Consultation evidence supports the identification of the human remains from the On-A-Slant Village as Mandan, and the cultural affiliation as the Three Affiliated Tribes of the Fort Berthold Reservation, North Dakota.

Officials of the New York University College of Dentistry have determined that, pursuant to 25 U.S.C. 3001 (9-10), the human remains described above represent the physical remains of two individuals of Native American ancestry. Officials of New York University College of Dentistry also have determined that, pursuant to 25 U.S.C. 3001 (2), there is a relationship of shared group identity that can be reasonably traced between the Native American human remains and the Three Affiliated Tribes of the Fort Berthold Reservation, North Dakota.

Representatives of any other Indian tribe that believes itself to be culturally affiliated with the human remains should contact Dr. Louis Terracio, New York University College of Dentistry, 345 East 24th St, New York, NY 10010, telephone (212) 998-9917, before June 1, 2009. Repatriation of the human remains to the Three Affiliated Tribes of the Fort Berthold Reservation, North Dakota may proceed after that date if no additional claimants come forward.

The New York University College of Dentistry is responsible for notifying the Three Affiliated Tribes of the Fort Berthold Reservation, North Dakota that this notice has been published.

Dated: April 13, 2009.
Sherry Hutt,
Manager, National NAGPRA Program.

[FR Doc. E9-9981 Filed 4-29-09; 8:45 am]

BILLING CODE 4312-50-S